DEPARTMENT OF COMMERCE

National Oceanic and Atmospheric Administration

RIN 0648-XD827

Endangered and Threatened Species; Notice of Intent To Withdraw Existing Draft Environmental Impact Statement

AGENCY: National Marine Fisheries Service (NMFS), National Oceanic and Atmospheric Administration (NOAA), Commerce.

ACTION: Notice of withdrawal.

SUMMARY: NMFS is announcing the withdrawal of a draft Environmental Impact Statement (EIS) that was being prepared on two resource management plans (RMPs) and 114 supporting hatchery and genetic management plans (HGMPs) for Puget Sound hatchery programs. The plans were submitted to NMFS by the Washington Department of Fish and Wildlife and the Puget Sound treaty tribes (referred to as the co-managers) for evaluation under the Endangered Species Act (ESA) for threatened Puget Sound Chinook salmon and Puget Sound steelhead. Subsequent to the notice of intent to prepare an EIS in 2004, the co-managers have made important changes in hatchery programs for salmon and steelhead. Changes in the programs and updated information important for analysis are being reflected in revised joint RMPs that are generally organized on a watershed-specific basis. In light of this and the ongoing submissions of revised watershed-specific joint hatchery RMPs and considering public comments received on the draft EIS, NMFS has determined that it is appropriate to withdraw the draft EIS. NMFS will conduct NEPA reviews for the revised RMPs that are jointly submitted to NMFS by the co-managers.

FOR FURTHER INFORMATION CONTACT: Steve Leider, telephone (360) 753-4650; fax (360) 753-9517; electronic mail: Steve.Leider@noaa.gov.

SUPPLEMENTARY INFORMATION: On May 12, 2004, NMFS published the original notice of intent in the Federal Register to prepare an EIS for two joint 2004 state and tribal RMPs for salmon and steelhead hatcheries in Puget Sound (69 FR 26364). On July 29, 2011, NMFS published a second notice of intent in the Federal Register (76 FR 45515), to remind other agencies and the public of its plans to analyze the effects related to the action, and obtain information that may not have been available in 2004 pertinent to the scope of issues to include in the EIS. On July 25, 2014, NMFS published notification in the Federal Register that a draft EIS was available for comment (79 FR 43465). In response to requests from the public the comment period was extended twice as published in the Federal Register (79 FR 59767, October 3, 2014, and 79 FR 69470, November 21, 2014).

Subsequent to NMFS' publication of the notice of intent to prepare an EIS in 2004, and subsequent to the 2004 RMPs, the co-managers have updated their hatchery programs to reflect important changes in hatchery management in different areas of Puget Sound. Such changes include new management practices to respond to new scientific information, revised purposes and sizes of some programs, and management responses to other issues unique to particular watersheds. Several hatchery programs have been terminated since 2004. Finally, the RMPs have been updated to reflect the 2007 listing of Puget Sound steelhead under the ESA.

In light of these changes, the co-managers have begun to submit to NMFS for review and approval revised joint RMPs for hatchery programs, generally organized by watershed, but located within the same action area as the 2004 RMPs. Because the co-managers are in control of how to design their RMPs and whether to revise the underlying HGMPs, these new RMPs replace the RMPs submitted in 2004.

While the draft EIS for Puget Sound hatchery programs was being developed, and in response to co-manager requests, NMFS conducted environmental reviews for the RMPs that were revised since the 2004 RMPs were submitted to NMFS. For example, on December 10, 2012, NMFS completed a final Environmental Assessment (EA) and finding of no significant impact (FONSI) for five Elwha salmon and steelhead hatchery programs. Subsequently, on December 15, 2014, a final supplemental EA and FONSI for Elwha hatchery programs was published. In addition, in February, NMFS published a notice of availability for a draft EA for three salmon hatchery programs in the Dungeness River watershed (80 FR 9260, February 20, 2015).

Public comments on the draft EIS for Puget Sound hatchery programs noted that the 2004 RMPs for hatchery programs do not accurately reflect current hatchery program purposes or practices, and that some of the information used was outdated. It was also noted that the scale of the review, incorporating more than a hundred hatchery programs, tended to mask effects for some species.

Therefore, considering ongoing submissions of revised watershed-specific joint RMPs within the action area of the 2004 RMPs and public comments received on the draft EIS, NMFS has determined it is appropriate to terminate the EIS and transition this effort into new NEPA reviews on revised hatchery RMPs that are jointly submitted to NMFS by the co-managers. NMFS does not plan to formally respond to public comments on the draft EIS; however, information in the terminated draft EIS, along with public comments received on the draft EIS, will be considered by NMFS in subsequent NEPA reviews of watershed-specific RMPs.

Authority

We provide this notice in accordance with the requirements of NEPA as amended (42 U.S.C. 4371 et seq.) and its implementing regulations (40 CFR 1506.6), and other appropriate Federal laws and regulations, and policies and procedures of NMFS for compliance with those regulations.

Dated: March 23, 2015.
Angela Somma,
Chief, Endangered Species Division, Office of Protected Resources, National Marine Fisheries Service.

[FR Doc. 2015-06926 Filed 3-25-15; 8:45 am]

BILLING CODE 3510-22-P